DEPARTMENT OF VETERANS AFFAIRS

Enhanced-Use Lease (EUL) of Department of Veterans Affairs (VA) Real Property for the Development of a Permanent and Transitional Housing Facility in Dayton, OH

AGENCY: Department of Veterans Affairs.

ACTION: Notice of Intent to Enter into an Enhanced-Use Lease (EUL).

SUMMARY: The Secretary of VA intends to enter into an EUL on an approximately 14-acre parcel of land at the Dayton VA Medical Center in Dayton, Ohio. As consideration for the lease, the lessee will be required to construct, operate, and maintain a permanent and transitional housing development. The lessee will also be required to give preference and priority placement for homeless, at-risk, disabled, and senior Veterans and their families and provide on-site supportive services.

FOR FURTHER INFORMATION CONTACT: Edward Bradley, Office of Asset Enterprise Management (044), Department of Veterans Affairs, 810 Vermont Avenue NW., Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible Veterans in the geographic service-delivery area within which the property is located. This project meets this requirement.

Approved: November 14, 2011.
Eric K. Shinseki,
Secretary of Veterans Affairs.

[FR Doc. 2011-30029 Filed 11-18-11; 8:45 am]

BILLING CODE 8320-01-P